FEDERAL ELECTION COMMISSION

Sunshine Act Meeting

AGENCY: Federal Election Commission.

DATE AND TIME: Tuesday, March 21, 2017 At 10:00 a.m. and Its Continuation at the Conclusion of the Open Meeting on March 23, 2017.

PLACE: 999 E Street NW., Washington, DC.

STATUS: This Meeting Was Closed To The Public.

Federal Register Notice of Previous Announcement—82 FR 14000

Change in the Meeting: This meeting was continued on March 29, 2017.

This meeting also discussed: Investigatory records compiled for law enforcement purposes and production would disclose investigative techniques.

* * * * *

Person To Contact for Information: Judith Ingram, Press Officer, Telephone: (202) 694-1220.

Dayna C. Brown,
Secretary and Clerk of the Commission.

[FR Doc. 2017-06559 Filed 3-30-17; 11:15 am]

BILLING CODE 6715-01-P